DEPARTMENT OF THE INTERIOR

Fish and Wildlife Service

Addition to Ninigret National Wildlife Refuge

AGENCY: Fish and Wildlife Service, Interior.

ACTION: Notice.

SUMMARY: The Director of the U.S. Fish and Wildlife Service has approved the 114 acre expansion of the Ninigret National Wildlife Refuge.

DATES: This action was effective on February 9, 2001.

FOR FURTHER INFORMATION CONTACT: Andrew French, Chief, Division of Realty, U.S. Fish and Wildlife Service, 2nd Floor, 300 Westgate Center Drive, Hadley, Massachusetts. Telephone 413-253-8590.

SUPPLEMENTARY INFORMATION: This property has been identified as the preferred site for the proposed Rhode Island National Wildlife Complex visitor center. The property is also within the boundary of all the proposed alternatives of the draft Comprehensive Conservation Plan currently proposed for the Rhode Island Complex.

Based on the information contained in the decision document, a categorical exclusion was signed on December 20, 2000, by the Regional Director.

Dated: February 9, 2001.
Marshall P. Jones, Jr.,
Acting Director.

[FR Doc. 01-4356 Filed 2-21-01; 8:45 am]

BILLING CODE 4310-55-M